ENVIRONMENTAL PROTECTION AGENCY

40 CFR Part 52

[EPA-R05-OAR-2019-0031; FRL-10011-75-Region 5]

Air Plan Approval; Illinois; Plan Elements for the Chicago Nonattainment Area for the 2008 Ozone Standard

AGENCY: Environmental Protection Agency (EPA).

ACTION: Final rule.

SUMMARY: The Environmental Protection Agency (EPA) is approving a revision to the Illinois State Implementation Plan (SIP) to meet the base year emissions inventory and motor vehicle inspection and maintenance (I/M) requirements of the Clean Air Act (CAA) for the Illinois portion of the Chicago-Naperville, Illinois-Indiana-Wisconsin area (Chicago area) for the 2008 ozone national ambient air quality standard (NAAQS or standard). EPA is approving the State's submission as a SIP revision pursuant to section 110 and part D of the CAA and EPA's regulations because it satisfies the emissions inventory and I/M requirements for areas classified as moderate nonattainment for the 2008 ozone NAAQS. Final approval of the Illinois SIP as meeting the I/M requirements of the CAA for the 2008 ozone NAAQS permanently stops the Federal Implementation Plan (FIP) clock for that element, which was triggered by EPA's December 11, 2017 finding that Illinois failed to submit certain required SIP elements for the 2008 ozone NAAQS. EPA proposed to approve this action on April 23, 2020 and received no adverse comments on the emissions inventory and I/M SIP elements.

DATES: This final rule is effective on September 18, 2020.

ADDRESSES: EPA has established a docket for this action under Docket ID No. EPA-R05-OAR-2019-0031. All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays and facility closures due to COVID 19. We recommend that you telephone Kathleen D'Agostino, Environmental Scientist, at (312) 886-1767 before visiting the Region 5 office.

FOR FURTHER INFORMATION CONTACT: Kathleen D'Agostino, Environmental Scientist, Attainment Planning and Maintenance Section, Air Programs Branch (AR-18J), U.S. Environmental Protection Agency, Region 5, 77 West Jackson Boulevard, Chicago, Illinois 60604, (312) 886-1767, dagostino.kathleen@epa.gov.

SUPPLEMENTARY INFORMATION: Throughout this document whenever “we,” “us,” or “our” is used, we mean EPA.

I. Background Information

On April 23, 2020 (85 FR 22693), EPA proposed to approve revisions to the Illinois SIP to meet the base year emissions inventory, motor vehicle I/M, reasonable further progress (RFP), and RFP contingency measures requirements of the CAA for the Illinois portion of the Chicago area for the 2008 ozone NAAQS. EPA also proposed to approve the 2017 transportation conformity motor vehicle emissions budgets (MVEBs) for the Illinois portion of the Chicago area for the 2008 ozone NAAQS. An explanation of the CAA requirements, a detailed analysis of the revisions, and EPA's reasons for proposing approval were provided in the notice of proposed rulemaking and will not be restated here. The public comment period for this proposed rule ended on May 26, 2020. EPA received no comments on the emissions inventory and I/M portions of the proposal. Therefore, we are finalizing our action on those plan elements as proposed. EPA received adverse comments on the portions of the proposal relating to the RFP plan, RFP contingency measures, and the related MVEBs. EPA will be addressing these plan elements and the associated comments in a separate action.

II. Final Action

EPA is approving revisions to the Illinois SIP pursuant to section 110 and part D of the CAA and EPA's regulations because the Illinois Environmental Protection Agency's (IEPA's) January 10, 2019, SIP plan submission satisfies the emissions inventory and I/M requirements of the CAA for the Illinois portion of the Chicago area for the 2008 ozone NAAQS. Final approval of these portions of IEPA's January 10, 2019 SIP revision permanently stops the FIP clock triggered by the December 11, 2017 finding with respect to a basic I/M program. Final approval of these portions of IEPA's submittal will not affect the FIP clocks triggered by the December 11, 2017 finding for the following SIP elements: RFP, contingency measures for volatile organic compounds (VOC) and oxides of nitrogen (NOX), an attainment demonstration, Reasonably Available Control Technology (RACT) non-control techniques guidelines for major stationary sources of VOC, and RACT for major stationary sources of NOX.

III. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by October 19, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Volatile organic compounds.

Dated: July 22, 2020.
Kurt Thiede,
Regional Administrator, Region 5.

For the reasons stated in the preamble, the EPA amends 40 CFR part 52 as follows:

PART 52—APPROVAL AND PROMULGATION OF IMPLEMENTATION PLANS

1. The authority citation for part 52 continues to read as follows:

Authority: 42 U.S.C. 7401 et seq.

2. In § 52.720, the table in paragraph (e) is amended:

a. Under “Emission Inventories” by:

i. Revising the entry for “Emission inventory—2011 (2008 8-hour ozone)” to remove the “Chicago area”;

ii. Adding a second entry for “Emission inventory—2011 (2008 8-hour ozone)” for the “Chicago area”;

b. Under “Moderate Area & Above Ozone Requirements” by adding an entry for “I/M certification (8-hour, 2008 ozone)” following the entry for “15 percent rate-of-progress and 3 percent contingency plans”.

The revisions and additions read as follows:

§ 52.720 Identification of plan.

* * * * *

(e) * * *

EPA—Approved Illinois Nonregulatory and Quasi—Regulatory Provisions
Name of SIP provision | Applicable geographic or nonattainment area | State submittal date | EPA approval date | Comments
* * * * * * *
Emission inventory—2011 (2008 8-hour ozone) | St. Louis area | 9/3/2014 | 3/7/2016, 81 FR 11671 |
Emission inventory—2011 (2008 8-hour ozone) | Chicago area | 1/10/2019 | 8/19/2020, [Insert Federal Register citation] |
* * * * * * *
I/M certification (8-hour, 2008 ozone) | Chicago area | 1/10/2019 | 8/19/2020, [Insert Federal Register citation] |
* * * * * * *

* * * * *

[FR Doc. 2020-16246 Filed 8-18-20; 8:45 am]

BILLING CODE 6560-50-P